DEPARTMENT OF ENERGY

Federal Energy Regulatory Commission

Combined Notice of Filings #1

Take notice that the Commission received the following electric corporate filings:

Docket Numbers: EC13-74-000.

Applicants: Pasco Cogen, Ltd., Lake Investment, LP, NCP Lake Power, LLC, Teton New Lake, LLC, Auburndale LP, LLC, Auburndale GP, LLC, Dade Investment, LP, NCP Dade Power, LLC.

Description: Application for Approval under Section 203 of the Federal Power Act and Requests for Expedited Consideration and Confidential Treatment of Pasco Cogen, Ltd., et al.

Filed Date: 2/8/13.

Accession Number: 20130208-5162.

Comments Due: 5 p.m. ET 3/1/13.

Take notice that the Commission received the following electric rate filings:

Docket Numbers: ER13-692-002.

Applicants: Midwest Independent Transmission System Operator, Inc.

Description: Midwest Independent Transmission System Operator, Inc. submits tariff filing per 35.17(b): 2012-02-08_OASIS Replacement_2 to be effective 4/15/2013.

Filed Date: 2/8/13.

Accession Number: 20130208-5161.

Comments Due: 5 p.m. ET 3/1/13.

Docket Numbers: ER13-912-000.

Applicants: Southwest Power Pool, Inc.

Description: 2522 Tres Amigas Interconnection Agreement to be effective 1/25/2013.

Filed Date: 2/8/13.

Accession Number: 20130208-5131.

Comments Due: 5 p.m. ET 3/1/13.

Docket Numbers: ER13-913-000.

Applicants: Ohio Valley Electric Corporation.

Description: OATT Order No. 1000. Compliance Filing to be effective 12/31/9998.

Filed Date: 2/8/13.

Accession Number: 20130208-5137.

Comments Due: 5 p.m. ET 3/25/13.

Docket Numbers: ER13-914-000.

Applicants: Green Mountain Power Corporation.

Description: Green Mountain Power filing of Rate Schedule No. 73 to be effective 2/8/2013.

Filed Date: 2/8/13.

Accession Number: 20130208-5149.

Comments Due: 5 p.m. ET 3/1/13.

Docket Numbers: ER13-915-000.

Applicants: Pinpoint Power, LLC.

Description: Pinpoint Power, LLC submits Pinpoint Cancellation to be effective 4/9/2013.

Filed Date: 2/8/13.

Accession Number: 20130208-5160.

Comments Due: 5 p.m. ET 3/1/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2013.
Nathaniel J. Davis, Sr.,
Deputy Secretary.

[FR Doc. 2013-03711 Filed 2-15-13; 8:45 am]

BILLING CODE 6717-01-P